DEPARTMENT OF ENERGY

Office of Energy Efficiency and Renewable Energy

Proposed Agency Information Collection

AGENCY: Office of Energy Efficiency and Renewable Energy, Department of Energy (DOE).

ACTION: Submission for Office of Management and Budget (OMB) review; comment request.

SUMMARY: The Department of Energy has submitted to the OMB for clearance, a proposal for collection of information pursuant to the Paperwork Reduction Act of 1995. The collection would be used to develop a scorecard that would assist DOE's Clean Cities Coalitions and stakeholders in assessing the level of readiness of their communities for plug-in electric vehicles. Information collected would allow DOE to provide respondents with an objective assessment of their communities' readiness for PEV adoption and an understanding of their commitment to successful deployment of PEVs, and is needed to ensure appropriate evaluation of progress in deploying PEVS.

DATES: Comments regarding this collection must be received on or before August 6, 2012. If you anticipate that you will be submitting comments, but find it difficult to do so within the period of time allowed by this notice, please advise the OMB Desk Officer of your intention to make a submission as soon as possible. The Desk Officer may be telephoned at 202-395-4650.

ADDRESSES: Written comments should be sent to: Desk Officer for the Department of Energy, Office of Information and Regulatory Affairs, Office of Management and Budget, New Executive Office Building, Room 10102, 735 17th Street NW., Washington, DC 20503. And to Ms. Linda Bluestein, Office of Energy Efficiency and Renewable Energy (EE-2G), U.S. Department of Energy, 1000 Independence Avenue SW., Washington, DC 20585-0121, or by fax at 202-586-1600, or by email at Linda.Bluestein@ee.doe.gov.

FOR FURTHER INFORMATION CONTACT: Ms. Linda Bluestein at the address listed above in ADDRESSES.

SUPPLEMENTARY INFORMATION: This information collection request contains: (1) OMB No.: {New}; (2) Information Collection Request Title: Clean Cities Plug-In Vehicle Community Readiness Scorecard; (3) Type of Request: New collection; (4) Purpose: DOE's Clean Cities initiative has developed a voluntary scorecard to assist its coalitions and stakeholders in assessing the level of readiness of their communities for plug-in electric vehicles. The principal objective of the scorecard is to provide respondents with an objective assessment and estimate of their respective community's readiness for PEV deployment as well as understand the respective community's commitment to deploying these vehicles successfully. DOE intends the scorecard to be completed by a city/county/regional sustainability or energy coordinator. As the intended respondent may not be aware of every aspect of local or regional PEV readiness, coordination among local stakeholders to gather appropriate information may be necessary.

The scorecard assessment effort will rely on responses to questions the respondent chooses to answer. The multiple-choice questions address the following topic areas: (1) Electric vehicle supply equipment permitting and inspection process; (2) PEV and electric vehicle supply equipment availability and numbers; (3) laws, incentives, and financing; (4) education and outreach; (5) utility interaction; and (6) vehicle and infrastructure planning. Respondents will provide answers through a user-friendly online interface. The answers will then be translated through a simple algorithm that will establish appropriate quantitative criteria, translating the readiness measures across several weighted categories into numeric data. Using a numberless color spectrum, a community will be rated against itself, with the colored spectrum results made available only to the respondent community. The total rankings will be normalized into a “score”, and communities will see their own rating and may be compared to other cities.

The scorecard will use one information collection system, an online system. No other data collection system will be employed to support the scorecard. The online scorecard system DOE has developed provides several advantages. First, it avoids the need to download any forms or materials, though respondents may print out the full list of questions and answers, or a portion thereof if they wish. Second, avoiding downloads also limits potential security threats. Third, the designed system allows respondents to dynamically compare historical records, providing the opportunity to revisit the scorecard however often they like to track progress. Further, employing an online system also eliminates version control concerns, allowing for a single update to ensure that all scorecard users are using the current version.

The voluntary scorecard may be completed at any time, and there is no date by which the scorecard questions must be completed. Calculation of outcomes will be undertaken on an ongoing basis, immediately following completion of the scorecard questionnaire.

While there are approximately 90 Clean Cities Coalitions across the United States, DOE expects that other communities may want to avail themselves of the opportunity to assess their respective community's PEV readiness. Therefore, DOE expects a total respondent population of approximately 100 respondents. Selecting the multiple choice answers in completing a scorecard questionnaire is expected to take under 30 minutes, although additional time of no more than 20 hours may be needed to assemble information necessary to be able to answer the questions, leading to a total burden of approximately 2,050 hours in the first year. Assembling information to update questionnaire answers in future years on a voluntary basis would be expected to take less time, on the order of 10 hours, as much of any necessary time and effort needed to research information would have been completed previously; (5) Type of Respondents: Public; (6) Annual Estimated Number of Respondents: 100; (7) Annual Estimated Number of Total Responses: 100; (8) Annual Estimated Number of Burden Hours: 2,050; (9) Annual Estimated Reporting and Recordkeeping Cost Burden: There is no cost associated with reporting and recordkeeping.

Statutory Authority: 42 U.S.C. Sec. 13233; 42 U.S.C. Sec. 13252(a)-(b); 42 U.S.C. 13255.

Issued in Washington, DC, on June 20, 2012.
Patrick B. Davis,
Program Manager, Vehicle Technologies Program, Energy Efficiency and Renewable Energy.

[FR Doc. 2012-16455 Filed 7-3-12; 8:45 am]

BILLING CODE 6450-01-P